DEPARTMENT OF THE INTERIOR

Fish and Wildlife Service

Minor Adjustment of Kodiak National Wildlife Refuge Boundary

AGENCY: Fish and Wildlife Service, Interior.

ACTION: Notice of boundary adjustment.

SUMMARY: The Secretary of the Interior, acting through the Regional Director, Region 7, of the Fish and Wildlife Service, has made a minor modification to the boundary of the Kodiak National Wildlife Refuge in the State of Alaska. This boundary adjustment was made to incorporate a parcel of land which is adjacent to the former Refuge boundary. This parcel is a portion of a large, phased acquisition by the State of Alaska using EXXON Valdez oil spill settlement funds. This action added 2,699.75 acres to the Refuge.

DATES: Title to the land in question vested in the Untied States of America on December 5, 2000. Notification to Congress of the proposed boundary change was provided April 3, 2002.

ADDRESSES: Division of Realty, Fish and Wildlife Service, 1011 East Tudor Road, Anchorage, Alaska 99503-6199.

FOR FURTHER INFORMATION CONTACT: Sharon N. Janis, 907-786-3490.

SUPPLEMENTARY INFORMATION: In 2000, 2,699.75 acres of land were acquired from Afognak Joint Venture by the Untied States, for administration by the Fish and Wildlife Service. These lands lie outside, but adjacent to, the boundary of the Kodiak National Wildlife Refuge as established by the Alaska National Interest Lands Conservation Act. These lands are identified as Tract B of the Subdivision of Tract B Waterfall Addition, according to the plat thereof filed as Plat No. 2000-20 on November 8, 2000, in the Kodiak Recording District, Third Judicial District, State of Alaska, which is located in Sections 4, 9, 15, 16, 17, 19, 20, and 21, Township 21 South, Range 20 West, Seward Meridian, Alaska.

Section 103(b) of the Alaska National Interest Lands Conservation Act (16 U.S.C. 3103(b)) establishes authority for the Secretary of the Interior to make minor boundary adjustments to the Wildlife Refuges created by the Act. Under this authority, and following due notice to Congress, the Secretary, acting through the Regional Director, Region 7, of the Fish and Wildlife Service, has used this authority to adjust the boundaries of the Kodiak Refuge to include the 2,699,75 acres of land referenced above. This adjustment modifies the boundary previously described in Federal Register (48 FR 7966, February 24, 1983).

David B. Allen,
Regional Director.

[FR Doc. 03-3103 Filed 2-6-03; 8:45 am]

BILLING CODE 4310-55-M